OVERSEAS PRIVATE INVESTMENT CORPORATION

Submission for OMB Review; comments request

AGENCY: Overseas Private Investment Corporation (OPIC).

ACTION: Notice and request for comments.

SUMMARY: Under the provisions of the Paperwork Reduction Act, agencies are required to publish a Notice in the Federal Register notifying the public that the agency is modifying an existing information collection for OMB review and approval and requests public review and comment on the submission. OPIC received no comments in response to the sixty (60) day notice. The purpose of this notice is to allow an additional thirty (30) days for public comments to be submitted. Comments are being solicited on the need for the information; the accuracy of OPIC's burden estimate; the quality, practical utility, and clarity of the information to be collected; and ways to minimize reporting the burden, including automated collected techniques and uses of other forms of technology.

DATES: Comments must be received within thirty (30) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202) 336-8558.

SUPPLEMENTARY INFORMATION: OPIC received no comments in response to the sixty (60) day notice published in Federal Register, volume 82, pages 42365-42366 on September 7, 2017. All mailed comments and requests for copies of the subject form should include form number OPIC-255 on both the envelope and in the subject line of the letter. Electronic comments and requests for copies of the subject form may be sent to James.Bobbitt@opic.gov, subject line OPIC-255.

Summary Form Under Review

Type of Request: Revision of a currently approved information collection.

Title: Aligned Capital Investee Opt-In.

Form Number: OPIC-255.

Frequency of Use: Once per investor per project.

Type of Respondents: Business or other institution.

Standard Industrial Classification Codes: All.

Description of Affected Public: Companies investing overseas.

Reporting Hours: 37.5 hours (.5 hours per project).

Number of Responses: 75 per year.

Federal Cost: $0.

Authority for Information Collection: Sections 231 and 239(d) of the Foreign Assistance Act of 1961, as amended.

Abstract (Needs and Uses): The Aligned Capital Investee Opt-In is a document used by companies seeking investments or grant funding to place their information into OPIC's Aligned Capital Program. The Aligned Capital Program is designed to align development finance with other capital, including philanthropic, socially responsible and impact investment, to enable effective deployment of that capital towards projects in the countries and sectors in which OPIC works.

Dated: November 8, 2017.
Nichole Skoyles,
Administrative Counsel, Department of Legal Affairs.

[FR Doc. 2017-24601 Filed 11-13-17; 8:45 am]

BILLING CODE 3210-01-P